DEPARTMENT OF THE INTERIOR

National Park Service

Land Exchange at Petersburg National Battlefield

AGENCY: National Park Service, Interior.

ACTION: Notice.

I. The following described federally owned land administered by the National Park Service has been determined to be suitable for exchange. The authority for this exchange is the Act of July 15, 1968 (16 U.S.C. 460l-22b) and Executive Order No. 7329, dated March 30, 1936.

Petersburg National Battlefield (Battlefield) Tract 04-107 is a 0.14-acre parcel of federally owned land needed by the Commonwealth of Virginia Department of Transportation (VDOT) to improve Route 613 by widening and paving the existing roadway. The tract is located within the boundary of the Battlefield in the Commonwealth of Virginia and will remain so after consummation of the exchange. There are no threatened or endangered species or other species of management concern present on the tract. No cultural or archeological resources are known to exist on the tract.

The exchange will protect park resources and facilitate the administration of the park. The United States of America will retain mineral rights. A reverter clause will be included in the deed to VDOT whereby the property will revert at the option of the United States of America in the event that the Commonwealth of Virginia was to abandon said road.

Title will be conveyed subject to reservations and exceptions as contained in the original deeds as well as existing easements for public roads and highways, public utilities and pipelines. VDOT is responsible for the provision and maintenance of the respective roads.

II. In exchange for the land identified in Paragraph I, the United States will acquire Tract 01-150, a 0.85-acre parcel situated outside the boundary of the Battlefield near The Crater, an historic site within the boundary of the Battlefield. Federal acquisition of this tract will allow for protection of the visual integrity of the landscape from The Crater and the Crater Battlefield, a significant and threatened park resource. Executive Order No. 7329, dated March 30, 1936, authorizes the Secretary of the Interior to acquire this tract because of its proximity to The Crater property. The value of the properties to be exchanged shall be determined by a current fair market value appraisal and if they are not appropriately equal, the values shall be equalized by payment of cash as circumstances require.

For a period of 45 calendar days from the date this notice is first published, interested parties may submit comments to the Superintendent listed below. Adverse comments will be evaluated, and this action may be modified or vacated accordingly. In the absence of any action to modify or vacate, this realty action will become the final determination of the Department of the Interior.

SUMMARY: Notice is hereby given that the National Park Service proposes to convey to VDOT 0.14-acre of federally owned land at Petersburg National Battlefield in exchange for 0.85-acre of land owned by the Commonwealth of Virginia as authorized by the Act of July 15, 1968 (16 U.S.C. 460l-22b), and Executive Order No. 7329, dated March 30, 1936.

FOR FURTHER INFORMATION CONTACT: Detailed information concerning this exchange, including precise legal descriptions, Land Protection Plan, environmental assessments, cultural reports and Finding of No Significant Impact are available at the following address: Superintendent, Petersburg National Battlefield Park, 1539 Hickory Hill Road, Petersburg, VA 23803.

SUPPLEMENTARY INFORMATION: The Act of July 15, 1968 (16 U.S.C. 460l-22b) authorizes the Secretary of the Interior to accept title to any non-Federal property within an area under his/her administration, and in exchange may convey to the grantor of such property any Federally owned property under the jurisdiction which he/she determines is suitable for exchange or other disposal and which is located in the same State as the property to be acquired. Executive Order No. 7329, dated March 30, 1936, authorizes the Secretary of the Interior to acquire lands located within a distance of one-half mile from the boundary of a parcel of land known as The Crater property at Petersburg National Battlefield in the Commonwealth of Virginia.

Dated: November 23, 2004.
Nadine Leisz,
Regional Director, Northeast Region.

[FR Doc. 05-3500 Filed 2-23-05; 8:45 am]

BILLING CODE 4312-52-P